DEPARTMENT OF ENERGY

Federal Energy Regulatory Commission

Combined Notice of Filings #1

Take notice that the Commission received the following electric corporate filings:

Docket Numbers: EC24-82-000.

Applicants: SR Ailey, LLC.

Description: Application for authorization under Section 203 of the Federal Power Act of SR Ailey, LLC.

Filed Date: 6/4/24.

Accession Number: 20240604-5289.

Comment Date: 5 p.m. ET 6/25/24.

Docket Numbers: EC24-83-000.

Applicants: SR Toombs, LLC.

Description: Application for authorization under Section 203 of the Federal Power Act of SR Toombs, LLC.

Filed Date: 6/4/24.

Accession Number: 20240604-5294.

Comment Date: 5 p.m. ET 6/25/24.

Docket Numbers: EC24-84-000.

Applicants: Avangrid, Inc., Iberdrola, S.A.

Description: Joint application for authorization under Section 203 of the Federal Power Act of Iberdrola, S.A., et al. under.

Filed Date: 6/3/24.

Accession Number: 20240603-5276.

Comment Date: 5 p.m. ET 6/24/24.

Take notice that the Commission received the following exempt wholesale generator filings:Docket Numbers: EG24-199-000.

Applicants: Callisto I Energy Center LLC.

Description: Callisto I Energy Center LLC submits notice of self-certification of exempt wholesale generator status.

Filed Date: 6/5/24.

Accession Number: 20240605-5149.

Comment Date: 5 p.m. ET 6/26/24.

Take notice that the Commission received the following Complaints and Compliance filings in EL Dockets:Docket Numbers: EL24-115-000.

Applicants: California Public Utilities Commission, et al. v. San Diego Gas & Electric Company.

Description: Complaint of California Public Utilities Commission, et al. v. San Diego Gas & Electric Company.

Filed Date: 5/31/24.

Accession Number: 20240531-5455.

Comment Date: 5 p.m. ET 7/1/24.

Take notice that the Commission received the following electric rate filings:Docket Numbers: ER22-290-007.

Applicants: Oakland Power Company LLC.

Description: Compliance filing: Tariff Record Priority Order Adjustment Compliance Filing to be effective 1/1/2022.

Filed Date: 6/5/24.

Accession Number: 20240605-5089.

Comment Date: 5 p.m. ET 6/26/24.

Docket Numbers: ER22-290-008.

Applicants: Oakland Power Company LLC.

Description: Compliance filing: Errata to Hourly Capital Item Charge Update Filing to be effective 8/1/2023.

Filed Date: 6/5/24.

Accession Number: 20240605-5092.

Comment Date: 5 p.m. ET 6/26/24.

Docket Numbers: ER23-254-003.

Applicants: Oakland Power Company LLC.

Description: Compliance filing: Compliance Filing Pursuant to Order Approving Settlement to be effective 1/1/2023.

Filed Date: 6/5/24.

Accession Number: 20240605-5104.

Comment Date: 5 p.m. ET 6/26/24.

Docket Numbers: ER24-1431-001.

Applicants: Southwestern Public Service Company.

Description: Tariff Amendment: 2024.06.05 SPS Responsed to Deficiency Letter in ER24-1431 to be effective 5/8/2024.

Filed Date: 6/5/24.

Accession Number: 20240605-5157.

Comment Date: 5 p.m. ET 6/26/24.

Docket Numbers: ER24-1434-001.

Applicants: Central Hudson Gas & Electric Corporation, New York Independent System Operator, Inc.

Description: Tariff Amendment: Central Hudson Gas & Electric Corporation submits tariff filing per 35.17(b): Central Hudson Deficiency Response re: Rate Schedule 21 Formula Rate Filing to be effective 8/5/2024.

Filed Date: 6/5/24.

Accession Number: 20240605-5161.

Comment Date: 5 p.m. ET 6/26/24.

Docket Numbers: ER24-2187-000.

Applicants: American Electric Power Service Corporation, PJM Interconnection, L.L.C.

Description: § 205(d) Rate Filing: American Electric Power Service Corporation submits tariff filing per 35.13(a)(2)(iii: AEP submits one Facilities Agreement re: ILDSA, SA No. 5120 to be effective 8/5/2024.

Filed Date: 6/5/24.

Accession Number: 20240605-5054.

Comment Date: 5 p.m. ET 6/26/24.

Docket Numbers: ER24-2188-000.

Applicants: Southwest Power Pool, Inc.

Description: § 205(d) Rate Filing: 1276R33 Evergy Metro NITSA NOA to be effective 6/1/2024.

Filed Date: 6/5/24.

Accession Number: 20240605-5119.

Comment Date: 5 p.m. ET 6/26/24.

Docket Numbers: ER24-2189-000.

Applicants: Midcontinent Independent System Operator, Inc., American Transmission Company LLC.

Description: § 205(d) Rate Filing: Midcontinent Independent System Operator, Inc. submits tariff filing per 35.13(a)(2)(iii: 2024-06-05_SA 4300 ATC-WPL E&P (J1706) to be effective 8/5/2024.

Filed Date: 6/5/24.

Accession Number: 20240605-5127.

Comment Date: 5 p.m. ET 6/26/24.

Docket Numbers: ER24-2190-000.

Applicants: Southwest Power Pool, Inc.

Description: § 205(d) Rate Filing: 1266R15 Kansas Municipal Energy Agency NITSA and NOA to be effective 6/1/2024.

Filed Date: 6/5/24.

Accession Number: 20240605-5176.

Comment Date: 5 p.m. ET 6/26/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 5, 2024.
Debbie-Anne A. Reese,
Acting Secretary.

[FR Doc. 2024-12751 Filed 6-10-24; 8:45 am]

BILLING CODE 6717-01-P